FEDERAL COMMUNICATIONS COMMISSION

47 CFR Part 73

[DA 05-1735; MB Docket No. 05-3; RM-11132]

Radio Broadcasting Services; Grand Isle and St. Albans, VT and Tupper Lake, NY

AGENCY: Federal Communications Commission.

ACTION: Final rule.

SUMMARY: In response to a Notice of Proposed Rule Making, 70 FR 3667 (January 26, 2005), this Report and Order upgrades Channel 272A, Station WLFE-FM, St. Albans, Vermont, to Channel 272C3, reallots Channel 272C3 to Grand Isle, Vermont, and modifies Station WLFE-FM's license accordingly. To accommodate the foregoing changes, this Report And Order substitutes Channel 271C3 for Channel 272A at FM Station WRGR, Tupper Lake, New York. The coordinates for Channel 272C3 at Grand Isle, Vermont are 44-44-07 NL and 73-30-57 WL, with a site restriction of 17.4 kilometers (10.8 miles) west of Grand Isle. The coordinates for Channel 271C3 at Tupper Lake, New York, are 44-07-21 NL and 74-31-52 WL, with a site restriction of 12.6 kilometers (7.8 miles) southwest of Tupper Lake.

DATES: Effective August 8, 2005.

FOR FURTHER INFORMATION CONTACT: R. Barthen Gorman, Media Bureau, (202) 418-2180.

SUPPLEMENTARY INFORMATION: This is a synopsis of the Commission's Report and Order, MB Docket No. 05-3, adopted June 22, 2005, and released June 24, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for part 73 reads as follows:

Authority: 47 U.S.C. 154, 303, 334, and 336.

§ 73.202 [Amended]

2. Section 73.202(b), the Table of FM Allotments under New York, is amended by removing Channel 272A and adding Channel 271C3 to Tupper Lake.

Federal Communications Commission.
John A. Karousos,
Assistant Chief, Audio Division, Media Bureau.

[FR Doc. 05-14054 Filed 7-19-05; 8:45 am]

BILLING CODE 6712-01-P